DEPARTMENT OF THE TREASURY

Submission for OMB Review; Comment Request

November 23, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before December 31, 2001 to be assured of consideration.

Bureau of Alcohol, Tobacco and Firearms

OMB Number: 1512-0005.

Form Number: ATF F 3210.1.

Type of Review: Extension.

Title Application for Restoration of Firearms and/or Explosives.

Description: Certain categories of persons are prohibited from possessing explosives and firearms. This form is the basis for ATF investigating the merits of an applicant to have his/her rights restored.

Respondents: Individuals or households, Business or other for-profit.

Estimated Number of Respondents: 5,000.

Estimated Burden Hours Per Respondent: 30 minutes.

Frequency of Response: On occasion.

Estimated Total Reporting Burden: 2,500 hours.

OMB Number: 1512-0029.

Form Number: ATF F 10 (5320.10).

Type of Review: Extension.

Title: Application for Registration of Firearms Acquired by Certain Governmental Entities.

Description: This form is used by State and local government agencies to obtain permission to register otherwise unregisterable firearms for agency use. These agencies obtain a benefit by this registration.

Respondents: Federal Government, Individuals or households, Business or other for-profit, State, Local or Tribal Government.

Estimated Number of Reporting/Recordkeepers: 600.

Estimated Burden Hours Per Respondent/Recordkeeper: 30 minutes.

Frequency of Response: Other (ATF Form 10 is required to be submitted by State and local government entities wishing to register an abandoned or seized and previously unregistered National Firearms Act weapon. The form is required whenever application for such a registration is made.)

Estimated Total Reporting/Recordkeeping Burden: 300 hours.

OMB Number: 1512-0095.

Form Number: ATF F 5154.1.

Type of Review: Extension.

Title: Formula and Process for Nonbeverage Product.

Description: Businesses that use taxpaid alcohol to manufacture nonbeverage products may file a claim for drawback (refund or remittance), if they can substantiate by using ATF Form 5154.1 that the spirits were used in the manufacture of products unfit for beverage use. This determination is based on the formula for the product.

Respondents: Business or other for-profit.

Estimated Number of Recordkeepers: 611.

Estimated Burden Hours Per Recordkeeper: 30 minutes.

Frequency of Response: On occasion.

Estimated Total Recordkeeping Burden: 2,500 hours.

OMB Number: 1512-0222.

Form Number: ATF F 5640.2.

Type of Review: Extension.

Title: Offer in Compromise of Liability Incurred Under Federal Alcohol Administration Act, as Amended.

Description: Persons who have committed violations of the FAA Act may submit an offer in compromise. The offer is a request by the party in violation to compromise penalties for the violations in lieu of civil or criminal action. ATF F 5640.2 identifies the violation(s) to be compromised by the person committing them, amount of offer plus justification for acceptance.

Respondents: Business or other for-profit.

Estimated Number of Respondents: 12.

Estimated Burden Hours Per Respondent: 2 hours.

Frequency of Response: On occasion.

Estimated Total Reporting Burden: 24 hours.

Clearance Officer: Frank Bowers (202) 927-8930, Bureau of Alcohol, Tobacco and Firearms, Room 3200, 650 Massachusetts Avenue, NW., Washington, DC 20226.

OMB Reviewer: Alexander T. Hunt (202) 395-7860, Office of Management and Budget, Room 10202, New Executive Office Building, Washington, DC 20503.

Mary A. Able,
Departmental Reports Management Officer.

[FR Doc. 01-29711 Filed 11-29-01; 8:45 am]

BILLING CODE 4810-31-P